NUCLEAR REGULATORY COMMISSION

[Docket Nos. 50-295, 50-304, and 72-1037; NRC-2019-0236]

In the Matter of ZionSolutions, LLC and Exelon Generation Company, LLC; Zion Nuclear Power Station, Units 1 and 2

AGENCY: Nuclear Regulatory Commission.

ACTION: Direct transfer of license; extending effectiveness of order.

SUMMARY: The U.S. Nuclear Regulatory Commission (NRC) is issuing an order to extend until November 26, 2022, the effectiveness of a November 26, 2019, order, which approved the direct transfer of Facility Operating License Nos. DPR-39 and DPR-48 for Zion Nuclear Power Station (ZNPS), Units 1 and 2, respectively, and the general license for the ZNPS independent spent fuel storage installation from the current holder, ZionSolutions, LLC, to Exelon Generation Company, LLC and approved conforming license amendments.

DATES: The order was issued on August 30, 2021 and was effective upon issuance.

ADDRESSES: Please refer to Docket ID NRC-2019-0236 when contacting the NRC about the availability of information regarding this document. You may obtain publicly available information related to this document using any of the following methods:

• Federal Rulemaking Website: Go to https://www.regulations.gov and search for Docket ID NRC-2019-0236. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The written application for extending the effectiveness of the transfer order is available in ADAMS under Accession No. ML21230A322. The order extending the effectiveness of the transfer order is available in ADAMS under Accession No. ML21229A027.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Kim Conway, Office of Nuclear Material Safety and Safeguards, U.S. Nuclear Regulatory Commission, Washington, DC 20555-0001; telephone: 301-415-1335; email: Kimberly.Conway@nrc.gov.

SUPPLEMENTARY INFORMATION: The text of the order is attached.

Dated: September 2, 2021.
For the Nuclear Regulatory Commission.
Bruce A. Watson,
Chief, Reactor Decommissioning Branch, Division of Decommissioning, Uranium Recovery and Waste Programs, Office of Nuclear Material Safety and Safeguards.

Attachment—Order Extending the Effectiveness of the Approval of the Transfer of Licenses and Conforming Amendments

United States of America

Nuclear Regulatory Commission

[NRC-2019-0236]

In the Matter of: ZionSolutions, LLC and Exelon Generation Company, LLC, Zion Nuclear Power Station, Units 1 and 2; EA-19-125, Docket Nos. 50-295, 50-304, and 72-1037; License Nos.: DPR-39 and DPR-48.

Order Extending the Effectiveness of the Approval of the Transfer of Licenses and Conforming Amendments

I

ZionSolutions, LLC is the holder of U.S. Nuclear Regulatory Commission (NRC, the Commission) Facility Operating License Nos. DPR-39 and DPR-48 for the Zion Nuclear Power Station, Units 1 and 2, respectively (ZNPS), and the associated general license for the ZNPS independent spent fuel storage installation (ISFSI), which are located in Lake County, Illinois. ZionSolutions, LLC is authorized to possess and maintain ZNPS and the ZNPS ISFSI. Operation of ZNPS is no longer authorized under these licenses.

II

By Order dated November 26, 2019 (Transfer Order), the Commission consented to the direct transfer of the ZNPS licenses from ZionSolutions, LLC to Exelon Generation Company, LLC and approved draft conforming administrative license amendments in accordance with Sections 50.80, “Transfer of licenses,” 72.50, “Transfer of license,” and 50.90, “Application for amendment of license, construction permit, or early site permit,” of Title 10 of the Code of Federal Regulations (10 CFR). By its terms, the Transfer Order becomes null and void if the transfer is not completed within one year (i.e., by November 26, 2020); provided, however, that upon written application and for good cause shown, such date may be extended by order. By letter dated August 27, 2020, ZionSolutions, LLC submitted a written application to extend the effectiveness of the Transfer Order by six months, until May 26, 2021. That request was approved by Order (First Extension Order) dated October 21, 2020. Subsequently, by letter dated April 15, 2021, ZionSolutions, LLC submitted a written application to extend the effectiveness of the Transfer Order by an additional six months, until November 26, 2021. That request was approved by Order (Second Extension Order) dated May 12, 2021.

III

By letter dated August 17, 2021, ZionSolutions, LLC submitted a written application to extend the effectiveness of the Transfer Order by an additional twelve months, until November 26, 2022. As stated in the application, responses to requests for additional information regarding ZNPS Final Status Survey Final Reports and their associated Release Records are currently under review by the NRC staff. The extension would provide the NRC staff with additional time to assess the responses provided by ZionSolutions, LLC and make a final determination regarding the release of land for unrestricted use.

Based on the above, the NRC has determined that ZionSolutions, LLC has shown good cause for extending the effectiveness of the Transfer Order by an additional twelve months, as requested.

IV

Accordingly, pursuant to Sections 161b, 161i, and 184 of the Atomic Energy Act of 1954, as amended, 42 U.S.C. Sections 2201(b), 2201(i), and 2234; and 10 CFR 50.80 and 10 CFR 72.50, it is hereby ordered that the expiration date of the Transfer Order, as extended by the Second Extension Order, is further extended until November 26, 2022. If the subject license transfer from ZionSolutions, LLC to Exelon Generation Company, LLC is not completed by November 26, 2022, the Transfer Order shall become null and void; provided, however, that upon written application and for good cause shown, such date may be extended by order.

This Order is effective upon issuance.

For further details with respect to this Order, see the written application for extension dated August 17, 2021, which is available electronically through the NRC's Agencywide Documents Access and Management System (ADAMS) in the NRC Library at https://www.nrc.gov/reading-rm/adams.html under Accession No. ML21230A322. Persons who encounter problems with ADAMS should contact the NRC's Public Document Room reference staff by telephone at 1-800-397-4209 or 301-415-4737 or by email to pdr.resource@nrc.gov.

Dated this 30th day of August 2021.

For the Nuclear Regulatory Commission

/RA/

John W. Lubinski,

Director, Office of Nuclear Material Safety and Safeguards.

[FR Doc. 2021-19342 Filed 9-3-21; 8:45 am]

BILLING CODE 7590-01-P